DEPARTMENT OF HEALTH AND HUMAN SERVICES

Administration for Children and Families

Proposed Information Collection Activity; Comment Request

Proposed Projects:

Title: Request for Specific Consent to Juvenile Court Jurisdiction.

OMB No.: 0970-0385.

Description: Section 235(d) of the William Wilberforce Trafficking Victims Protection Reauthorization Act of 2008 (TVPRA of 2008), Public Law 110-457 directs the Secretary of HHS to grant or deny requests for specific consent for unaccompanied alien children (UAC) in HHS custody who seek to invoke the jurisdiction of a state court for a dependency order and who also seek to invoke the jurisdiction of a state court to determine or alter his or her custody status or release from the Office of Refugee Resettlement (ORR). These requests can be extremely time sensitive since a child must ask a state court for dependency before turning 18 years old.

In March 2011, the Office of Management and Budget (OMB) approved ORR's request to use an instrument to collect the necessary information from unaccompanied alien children, their attorneys, or other representatives to allow HHS to approve or deny consent requests. The instrument, Request for Specific Consent to Juvenile Court Jurisdiction (the ORR-C-1), collects the requestor's identifying information, basic identifying information on the unaccompanied alien child, the name of the HHS-funded facility where the child is in HHS custody and care, the name of the court and its location, and the kind of request (e.g., for a change in custody, etc.). The information collection includes the request for the unaccompanied alien child's attorney or authorized representative to attach a Notice of Representation, which is an approved federal government agency form used for immigration procedures that authorizes the attorney to act on behalf of the child (i.e., G-28, EOIR-28, EOIR-29), or any other form of authorization to act on behalf of the unaccompanied alien child.

Respondents: Attorneys, accredited legal representatives, or others authorized to act on behalf of an unaccompanied alien child.

Annual Burden Estimates
Instrument | Number of respondents | Number of responses per respondent | Average burden hours per response | Total burden hours
ORR C-1 | 30 | 1 | 0.33 | 9.9

Estimated Total Annual Burden Hours: 9.9.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-11909 Filed 6-7-17; 8:45 am]

BILLING CODE 4185-45-P